DEPARTMENT OF EDUCATION

National Assessment Governing Board Quarterly Board Meeting

AGENCY: National Assessment Governing Board, U.S. Department of Education.

ACTION: Announcement of open and closed meetings.

SUMMARY: This notice sets forth the agenda for the November 16-18, 2017 Quarterly Board Meeting of the National Assessment Governing Board (hereafter referred to as Governing Board). This notice provides information to members of the public who may be interested in attending the meeting or providing written comments related to the work of the Governing Board. Notice of this meeting is required under § 10(a)(2) of the Federal Advisory Committee Act (FACA).

DATES: The Quarterly Board Meeting will be held on the following dates:

• November 16, 2017 from 11:15 a.m. to 6:00 p.m.

• November 17, 2017 from 8:30 a.m. to 4:30 p.m.

• November 18, 2017 from 7:30 a.m. to 12:00 p.m.

ADDRESSES: Washington Marriott Georgetown, 1221 22nd Street NW., Washington, DC 20037.

FOR FURTHER INFORMATION CONTACT: Munira Mwalimu, Executive Officer/Designated Federal Official for the Governing Board, 800 North Capitol Street NW., Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. Written comments may be submitted electronically or in hard copy to the attention of the Executive Officer/Designated Federal Official (see contact information noted above). Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

November 16-17, 2017 Committee Meetings

The Governing Board's standing committees will meet to conduct regularly scheduled work based on agenda items planned for this Quarterly Board Meeting and follow-up items as reported in the Governing Board's committee meeting minutes available at http://nagb.gov/what-we-do/board-committee-reports-and-agendas.html.

Detailed Meeting Agenda: November 16-18, 2017

November 16: Committee Meetings

Assessment Development Committee (ADC): Open Session: 11:15 a.m. to 1:30 p.m.

Ad Hoc Committee on Measures of Postsecondary Preparedness: Open Session: 1:45 p.m. to 3:45 p.m.

Executive Committee: Open Session: 4:30 p.m. to 5:00 p.m.; Closed Session: 5:00 p.m. to 6:00 p.m.

November 17: Full Governing Board and Committee Meetings

Full Governing Board: Open Session: 8:30 a.m. to 12:30 p.m.; 3:30 p.m. to 4:30 p.m.

Committee Meetings

ADC: Open Session: 12:45 p.m. to 2:15 p.m.

Reporting and Dissemination (R&D): Open Session 12:45 p.m. to 2:15 p.m.

ADC and R&D Joint Session: Open Session: 2:15 p.m. to 3:15 p.m.

Committee on Standards, Design and Methodology (COSDAM): Open Session: 12:45 p.m. to 2:30 p.m.; Closed Session: 2:30 p.m. to 3:15 p.m.

November 18: Full Governing Board and Committee Meetings

Nominations Committee: Closed Session: 7:30 a.m. to 8:15 a.m.

Full Governing Board: Open Session: 8:30 a.m. to 12:00 p.m.

On Thursday, November 16, 2017, ADC will meet in open session from 11:15 a.m. to 1:30 p.m. Thereafter, the Ad Hoc Committee on Measures of Postsecondary Preparedness will meet in open session from 1:45 p.m. to 3:45 p.m. The Executive Committee will convene in open session from 4:30 p.m. to 5:00 p.m. and in closed session from 5:00 p.m. to 6:00 p.m. During the closed session, the Executive Committee will receive and discuss cost estimates for implementing NAEP's Assessment Schedule for 2014-2024, and the implications of cost and funding estimates for the NAEP Assessment Schedule in relation to the Governing Board's Strategic Vision and draft policy priorities for the NAEP Assessment Schedule. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

On Friday, November 17, 2017, the Governing Board will meet in open session and also via webcast from 8:30 a.m. to 12:30 p.m.

From 8:30 a.m. to 8:45 a.m., the Governing Board will review and approve the November 17-18, 2017 Governing Board meeting agenda and meeting minutes from the August 2017 Quarterly Board Meeting. Thereafter, the Governing Board Chairman will provide remarks. From 8:45 a.m. to 9:15 a.m., the Secretary of Education, Betsy DeVos, will administer the oath of office to five new members and one reappointed member and provide remarks. See the news release at the following link: https://www.nagb.org/news-and-events/news-releases/2017/release-20170928-six-leaders-named.html.

On Friday, November 17, 2017, the Governing Board will hear from a panel of experts on international assessments, Thinking Beyond Borders: The Future of Student Assessment, from 9:15 a.m. to 12:30 p.m. This session will be available via webcast online at www.nagb.gov on the day of the event. Members of the public may view the session in person on a first come, first serve basis, with an overflow room also available as needed.

At 12:30 p.m., the Governing Board will recess for a 15 minute break and convene for standing committee meetings which will take place from 12:45 p.m. to 3:15 p.m. The ADC and R&D Committees will meet in open session to conduct regular business. Thereafter, the two committees will meet in an open joint session from 2:15 p.m. to 3:15 p.m.

On Friday November 17, 2017, COSDAM will meet in open session from 12:45 p.m. to 2:30 p.m. and in closed session from 2:30 p.m. to 3:15 p.m. During the closed session, COSDAM will discuss information regarding analyses of the 2017 bridge studies for paper-and-pencil and digital-based assessments, and discuss secure NAEP Reading and Mathematics data. This part of the meeting must be conducted in closed session because the analysis involves the use of secure data for the NAEP Reading and Mathematics assessments on digital-based platforms. Public disclosure of secure data would significantly impede implementation of the NAEP assessment program if conducted in open session. Such matters are protected by exemption 9(B) of § 552b of Title 5 U.S.C.

Following the committee meetings, from 3:15 p.m. to 3:30 p.m., the Governing Board will take a 15 minute break and thereafter meet in open session from 3:30 p.m. to 4:30 p.m.

From 3:30 p.m. to 4:00 p.m., the Board will hear remarks from new members. The Governing Board will then receive their annual ethics briefing conducted by the U.S. Department of Education, Office of General Counsel Ethics Division staff from 4:00 p.m. to 4:30 p.m.

The November 17, 2017 session will adjourn at 4:30 p.m.

On November 18, 2017, the Nominations Committee will meet in closed session from 7:30 a.m. to 8:15 a.m. The Committee will discuss nominees for Governing Board vacancies for terms beginning October 1, 2018. The Nominations Committee's discussions pertain solely to internal personnel rules and practices of an agency and information of a personal nature where disclosure would constitute a clearly unwarranted invasion of personal privacy. As such, the discussions are protected by exemptions 2 and 6 of § 552b(c) of Title 5 of the United States Code.

The Governing Board will meet in open session on November 18, 2017 from 8:30 a.m. to 12:00 p.m. From 8:30 a.m. to 9:30 a.m. the Governing Board will engage in discussion on the international assessment panel that was convened on Friday, November 17, 2017. Then, from 9:30 a.m. to 10:30 a.m., the Governing Board will discuss the draft resolution on Governing Board priorities for the NAEP Assessment Schedule vis-a-vis the Governing Board's Strategic Vision #9, which is to develop policy approaches to revise the NAEP assessment subjects and schedule.

Following this session, the Governing Board will take a break from 10:30 a.m. to 10:45 a.m.

From 10:45 a.m. to 11:15 a.m. the Governing Board will receive committee reports and take action on the Release Plan for the 2017 NAEP Reading and Mathematics Report Cards for Grades 4 and 8.

From 11:15 a.m. to 12:00 p.m., the Governing Board will engage in discussion on the NAEP Framework Policy Revision pursuant to the Governing Board's Strategic Vision #5, which is to develop new approaches to update NAEP subject area frameworks.

The November 18, 2017 meeting will adjourn at 12:00 p.m.

Access to Records of the Meeting: Pursuant to FACA requirements, the public may also inspect the meeting materials at www.nagb.gov beginning on Thursday, November 16, 2017 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe Web site. You may also access documents of the Department published in the Federal Register by using the article search feature at: www.federalregister.gov. Specifically, through the advanced search feature at this site, you can limit your search to documents published by the Department.

Authority: Pub. L. 107-279, Title III—National Assessment of Educational Progress § 301.

Dated: October 27, 2017.
William J. Bushaw,
Executive Director, National Assessment Governing Board (NAGB), U.S. Department of Education.

[FR Doc. 2017-23751 Filed 10-31-17; 8:45 am]

BILLING CODE 4000-01-P